DEPARTMENT OF DEFENSE

Department of the Navy

Notice of Intent To Grant Exclusive Patent License; Magneto-Inductive Systems Limited

AGENCY: Department of the Navy, DOD.

ACTION: Notice.

SUMMARY: The Department of the Navy hereby gives notice of its intent to grant to Magneto-Inductive Systems Limited, an exclusive license to practice the Government-owned invention described in U.S. Patent No. 6,253,679, entitled “Magneto-Inductive On Command Fuze and Firing Device,” issued July 3, 2001.

DATES: Anyone wishing to object to the grant of this license has fifteen (15) days from the date of this notice to file written objections along with supporting evidence, if any.

ADDRESSES: Written objections are to be filed with Coastal Systems Station, Dahlgren, Div, NSWC, 6703 W. Hwy 98, Code CP01L, Panama City, FL 32407-7001.

FOR FURTHER INFORMATION CONTACT: Mr. Harvey A. Gilbert, Counsel, Coastal Systems Station, 6703 W. Hwy 98, Code XP01L, Panama City, FL 32407-7001, telephone (850) 234-4646, fax (850) 235-5497, or E-Mail at gilbertha@ncsc.navy.mil.

(Authority: 35 U.S.C. 207, 37 CFR part 404)

Dated: July 1, 2002.
R.E. Vincent, II,
Lieutenant Commander, Judge Advocate General's Corps, U.S. Navy, Federal Register Liaison Officer.

[FR Doc. 02-17710 Filed 7-12-02; 8:45 am]

BILLING CODE 3810-FF-M